DEPARTMENT OF DEFENSE

Office of the Secretary

Defense Science Board

ACTION: Notice of meetings.

SUMMARY: The Defense Science Board Year 2000 Summer Study Task Forces on Defensive Information Operations, Intelligence Needs for Civil Support, Defense Against Biological Weapons, and Unconventional Nuclear Warfare will meet in closed session on August 6-18, 2000, at the Beckman Center, Irvine, California.

The mission of the Defense Science Board is to advise the Secretary of Defense through the Under Secretary of Defense for Acquisition, Technology & Logistics on scientific and technical matters as they affect the perceived needs of the Department of Defense. At these meetings, the Task Forces will focus on assuring DoD's ability to carry out Joint Vision 2010 in the face of information warfare attack; developing an integrated picture of the intelligence required to effectively contribute to our civil support responsibilities in the three threat areas; increasing our future preparedness to deter, defend against, respond to, and attribute attack on the Nation by biological weapons; and addressing the current state of detection, identification, response and prevention of terrorist, subnational, or other unconventional nuclear attacks on the U.S.

In accordance with section 10(d) of the Federal Advisory Committee Act, Pub. L. No. 92-463, as amended (5 U.S.C. App. II (1994)), it has been determined that these DSB Task Force meetings concern matters listed in 5 U.S.C. 552b(c)(1) (1994), and that accordingly these meetings will be closed to the public.

Dated: June 9, 2000.
L.M. Bynum,
Alternate OSD Federal Register Liaison Officer, Department of Defense.

[FR Doc. 00-15076 Filed 6-14-00; 8:45 am]

BILLING CODE 5001-10-M